FEDERAL DEPOSIT INSURANCE CORPORATION

Sunshine Act Meeting

Pursuant to the provisions of the “Government in the Sunshine Act” (5 U.S.C. 552b), notice is hereby given that the previously announced meeting of the Board of Directors scheduled to be held on Wednesday, March 10, 2004, at 10 a.m. has been rescheduled for 8:30 a.m. that same day.

No earlier notice of the change in time of this meeting was practicable.

Dated: March 5, 2004.
Federal Deposit Insurance Corporation.
Robert E. Feldman,
Executive Secretary.

[FR Doc. E4-507 Filed 3-8-04; 12:45 pm]

BILLING CODE 6714-01-P